DEPARTMENT OF COMMERCE

International Trade Administration

Export Trade Certificate of Review

Action: Notice of issuance of an amended export trade certificate of review, application No. 90-7A007.

SUMMARY: The Department of Commerce has issued an amended Export Trade Certificate of Review to The United States Surimi Commission (“USSC”) on January 28, 2000. Notice of issuance of the original Certificate was published in the Federal Register on August 30, 1990 (55 FR 35445).

FOR FURTHER INFORMATION CONTACT: Morton Schnabel, Director, Office of Export Trading Company Affairs, International Trade Administration, (202) 482-5131. This is not a toll-free number.

SUPPLEMENTARY INFORMATION: Title III of the Export Trading Company Act of 1982 (15 U.S.C. 4001-21) authorizes the Secretary of Commerce to issue Export Trade Certificates of Review. The regulations implementing Title III are found at 15 CFR part 325 (1998).

The Office of Export Trading Company Affairs (“OETCA”) is issuing this notice pursuant to 15 CFR 325.6(b), which requires the Department of Commerce to publish a summary of a Certificate in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 90-7A007, was issued to The United States Surimi Commission (“USSC”) on August 22, 1990 (55 FR 35445, August 30, 1990), and lastly amended on August 3, 1995 (60 FR 41879, August 14, 1995).

USSC's Export Trade Certificate of Review has been amended to:

1. Add the following companies as new “Members” of the Certificate within the meaning of § 325.2(1) of the Regulations (15 CFR 325.2(1)): Highland Light Seafoods, LLC, Seattle, WA (Controlling Entity: Highland Light, Inc., Seattle, WA) and The Starbound Limited Partnership, Seattle, WA (Controlling Entity: Aleutian Spray Fisheries, Inc., Seattle, WA).

A copy of the amended certificate will be kept in the International Trade Administration's Freedom of Information Records Inspection Facility, Room 4102, U.S. Department of Commerce, 14th Street and Constitution Avenue, NW., Washington, DC 20230.

Dated: January 28, 2000.
Morton Schnabel,
Director, Office of Export Trading Company Affairs.

[FR Doc. 00-2568 Filed 2-3-00; 8:45 am]

BILLING CODE 3510-DR-P